INTERNATIONAL TRADE COMMISSION

[Investigation Nos. 701-TA-249 and 731-TA-262, 263, and 265 (Fourth Review)]

Iron Construction Castings From Brazil, Canada, and China

Determination

On the basis of the record ¹ developed in the subject five-year reviews, the United States International Trade Commission (“Commission”) determines, pursuant to the Tariff Act of 1930 (“the Act”), that revocation of the countervailing duty order on heavy iron construction castings from Brazil, the antidumping duty order on heavy iron construction castings from Canada, and the antidumping duty orders on iron construction castings from Brazil and China would be likely to lead to continuation or recurrence of material injury to industries in the United States within a reasonably foreseeable time.

¹ The record is defined in sec. 207.2(f) of the Commission's Rules of Practice and Procedure (19 CFR 207.2(f)).

Background

The Commission, pursuant to section 751(c) of the Act (19 U.S.C. 1675(c)), instituted these reviews on October 1, 2015 (80 FR 59192) and determined on January 4, 2016 that it would conduct full reviews (81 FR 1967, January 14, 2016). Notice of the scheduling of the Commission's reviews and of a public hearing to be held in connection therewith was given by posting copies of the notice in the Office of the Secretary, U.S. International Trade Commission, Washington, DC, and by publishing the notice in the Federal Register on June 23, 2016 (81 FR 40921). The hearing was held in Washington, DC, on October 20, 2016, and all persons who requested the opportunity were permitted to appear in person or by counsel.

The Commission made these determinations pursuant to section 751(c) of the Act (19 U.S.C. 1675(c)). It completed and filed its determinations in these reviews on December 21, 2016. The views of the Commission are contained in USITC Publication 4655 (December 2016), entitled Iron Construction Castings from Brazil, Canada, and China: Investigation Nos. 701-TA-249 and 731-TA-262, 263, and 265 (Fourth Review).

By order of the Commission.
Issued: December 22, 2016.
Lisa R. Barton,
Secretary to the Commission.

[FR Doc. 2016-31335 Filed 12-27-16; 8:45 am]

BILLING CODE 7020-02-P